DEPARTMENT OF DEFENSE

Office of the Secretary

[Transmittal No. 25-0H]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0H.

Dated: January 21, 2026.
Stephanie J. Bost,
Alternate OSD Federal Register Liaison Officer, Department of Defense.

BILLING CODE 6001-FR-P

BILLING CODE 6001-FR-C

Transmittal No. 25-0H

REPORT OF ENHANCEMENT OR UPGRADE OF SENSITIVITY OF TECHNOLOGY OR CAPABILITY (SEC. 36(B)(5)(C), AECA)

(i) Purchaser: Government of Ukraine

(ii) Sec. 36(b)(1), AECA Transmittal No.: 24-45

Date: May 16, 2024

Implementing Agency: Army

Funding Source: Foreign Military Financing

(iii) Description: On May 16, 2024, Congress was notified by congressional certification transmittal number 24-45, of the possible sale, under Section 36(b)(1) of the Arms Export Control Act, of equipment and services for sustainment support of United States (U.S.) Army supplied vehicles and weapon systems, utilizing Blanket Orders, Cooperative Logistics Supply Support Arrangement (CLSSA), and/or Simplified Non-Standard Acquisition Program (SNAP), as well as other related elements of logistics and program support. The estimated total program cost was $100 million. There was no Major Defense Equipment (MDE) associated with this sale.

This transmittal notifies inclusion of additional non-MDE equipment and services for sustainment support of U.S. Army supplied vehicles and weapon systems, utilizing Blanket Orders, Cooperative Logistics Supply Support Arrangement (CLSSA), and/or Simplified Non-Standard Acquisition Program (SNAP), and other related elements of logistics and program support. The estimated total value of the new items is $200 million. The estimated non-MDE value will increase by $200 million to a revised $300 million. The estimated total case value will increase by $200 million to a revised $300 million. There is no MDE included in this potential sale.

(iv) Significance: This proposed sale will directly contribute to Ukraine's battlefield effectiveness through improved logistics and will contribute to more resilient and rapid repair cycle times.

(v) Justification: This proposed sale will support the foreign policy goals and national security objectives of the U.S. by improving the security of a partner country that is a force for political stability and economic progress in Europe.

(vi) Sensitivity of Technology:

The highest level of classification of defense articles, components, and services included in this potential sale is UNCLASSIFIED.

(vii) Date Report Delivered to Congress: May 16, 2025

* as defined in Section 47(6) of the Arms Export Control Act.

[FR Doc. 2026-01365 Filed 1-23-26; 8:45 am]

BILLING CODE 6001-FR-P